DEPARTMENT OF THE INTERIOR

Bureau of Land Management

[OR-116-6310-PB; HAG03-0031]

Notice of Intent To Prepare an Environmental Impact Statement for the Development of the Timber Mountain/John's Peak Off-Highway Vehicle Management Plan

AGENCY: Bureau of Land Management, Department of the Interior.

ACTION: Notice of Intent to prepare an environmental impact statement (EIS) for the development of the Timber Mountain/John's Peak Off-Highway Vehicle (OHV) Management Plan, and initiation of public scoping.

SUMMARY: The Medford District of the Bureau of Land Management (BLM) is developing an Environmental Impact Statement (EIS) for the management of off-highway vehicle (OHV) use in the Timber Mountain/John's Peak OHV area. The BLM designated the Timber Mountain/John's Peak area “specifically to provide for OHV use” in the 1995 Medford District Resource Management Plan (RMP). The RMP directs the agency to, “Manage off-highway vehicle use on BLM-administered land to protect natural resources, provide visitor safety, and minimize conflicts among various users.” The development of the Timber Mountain/John's Peak OHV Management Plan will provide site-specific guidance for managing OHV use in accordance with the Medford District RMP direction. Approximately 13,865 acres of public land in Oregon are being considered in this planning effort. The public scoping process will be used to identify interested and affected individuals and groups, and to identify issues associated with the management of OHV use in the Timber Mountain/John's Peak area. Issues identified through the scoping process will be used to explore a range of possible alternatives for managing OHV use in this area.

DATES: Comments concerning the scope of the analysis should be received in writing 30 days from publication of this notice, to ensure timely consideration. Public scoping meetings and/or field tours will be held to provide the public with information on the planning process and to provide for opportunities for the public to share their concerns and ideas with the BLM. Meeting dates and locations will be announced through mailings, the local news media, and on the BLM Web site (http://www.or.blm.gov).

ADDRESSES: Send written comments to: Richard J. Drehobl, Ashland Field Manager, Medford District Bureau of Land Management, 3040 Biddle Road, Medford Oregon, 97504.

Pursuant to 7 CFR Part 1, Subpart B, § 1.27, all written submissions in response to this notice, public scoping letters, and draft and final Environmental Impact Statements will be made available for public inspection including the submitter's name and address, unless the submitter specifically requests confidentiality. If you wish to withhold your name or address from public review or from disclosure under the Freedom of Information Act, you must state this prominently at the beginning of your written comment. Such requests will be honored to the extent allowed by law. All submissions from organizations or businesses, submitted on official letterheads, and from individuals identifying themselves as representatives or officials of organization or businesses, will be made available for public inspection in their entirety.

FOR FURTHER INFORMATION CONTACT: Kristi Mastrofini at (541) 618-2384 or Don Ferguson at (541) 618-2292. Fax or E-mail can be sent to the attention of Kristi Mastrofini or Don Ferguson at (541) 618-2400, or 110mb@or.blm.gov.

SUPPLEMENTARY INFORMATION: OHV enthusiasts have recreated in the Timber Mountain/John's Peak area for 40 to 50 years. The 1995 Medford District Resource Management Plan (RMP) designated public lands in the Timber Mountain/John's Peak area as an OHV use area. The area is comprised of a checkerboard of BLM administered lands mixed with private lands (including lands owned by the City of Jacksonville, Motorcycle Riders Association, and Boise Corporation), increasing the complexity of managing trails and public access in the area. Off-highway vehicle use has increased tremendously in recent years, leading to the proliferation of new unauthorized trails on both public and private lands. Many existing trails are in good condition, while other trails are experiencing erosion that is leading to resource degradation. Due to the close proximity to the City of Jacksonville and adjacent wildland urban interface areas, and the checkerboard pattern of land ownership, there is also a high level of unauthorized access across private lands and vandalism (e.g. illegal dumping, sign shooting, etc). The Timber Mountain/John's Peak OHV Management Plan is needed to provide for OHV use in accordance with the Medford District RMP.

Preliminary public scoping for the Timber Mountain/John's Peak Management Plan began in 1998; however, due to limited funding, work on this project was temporarily deferred. The following issues were identified to be associated with OHV use in the Timber Mountain/John's Peak OHV area: Effects to water quality and riparian conditions; effects on sensitive soils; effects to Threatened or Endangered plants, fish, and wildlife; and impacts to private land owners associated with the incidence of trespass on private lands. Through additional public scoping and specialist review, this list of issues will be refined. Issues determined to be significant to the planning process will be used to develop a range of alternatives for managing OHV use in the Timber Mountain/John's Peak OHV area.

The National Environmental Policy Act encourages the use of cooperative relationships with Federal, State, and local agencies to capture opportunities where the decision-making authorities or special expertise of other agencies can enhance the planning process. The Medford District BLM, as the Lead Agency for this EIS, has identified opportunities to work cooperatively with Jackson County, the City of Jacksonville, the State of Oregon Parks and Recreation Department, Boise Cascade, and the Motorcycle Riders Association. The Medford District BLM will seek cooperative relationships with these local agencies and affected landowners to enhance this planning effort.

As public scoping progresses, other opportunities for cooperative relationships may become apparent.

Dated: November 15, 2002.
Richard J. Drehobl,
Field Manager, Ashland Resource Area.
Ron Wenker,
District Manager, Medford District BLM.

[FR Doc. 03-3164 Filed 2-7-03; 8:45 am]

BILLING CODE 3710-AR-U